ENVIRONMENTAL PROTECTION AGENCY

40 CFR Part 52

[EPA-R04-OAR-2012-0448; FRL-9732-2]

Approval and Promulgation of Implementation Plans; Georgia; Control Techniques Guidelines and Reasonably Available Control Technology

AGENCY: Environmental Protection Agency (EPA).

ACTION: Final rule.

SUMMARY: EPA is approving four final State Implementation Plan (SIP) revisions submitted by the State of Georgia, through the Georgia Environmental Protection Division (GA EPD), to EPA on November 13, 1992, October 21, 2009 (three separate submittals on this day), and March 19, 2012. Additionally, EPA is approving a SIP revision that GA EPD submitted on July 19, 2012, for parallel processing. GA EPD submitted the final submission related to the July 19, 2012, draft SIP revision on September 7, 2012. Together, these revisions establish reasonably available control technology (RACT) requirements for the major sources located in the Atlanta, Georgia 1997 8-hour ozone nonattainment area (hereafter referred to as the “Atlanta Area”) that either emit volatile organic compounds (VOC), nitrogen oxides (NOX), or both. Georgia's SIP revisions include certain VOC source categories for which EPA has issued Control Techniques Guidelines (CTG). EPA has evaluated the revisions to Georgia's SIP, and has made the determination that they are consistent with the Clean Air Act (CAA or Act), statutory and regulatory requirements and EPA guidance.

DATES: Effective Date: This rule will be effective October 29, 2012.

ADDRESSES: EPA has established a docket for this action under Docket Identification No. EPA-R04-OAR-2012-0448. All documents in the docket are listed on the www.regulations.gov Web site. Although listed in the index, some information is not publicly available, i.e., Confidential Business Information or other information whose disclosure is restricted by statute. Certain other material, such as copyrighted material, is not placed on the Internet and will be publicly available only in hard copy form. Publicly available docket materials are available either electronically through www.regulations.gov or in hard copy at the Regulatory Development Section, Air Planning Branch, Air, Pesticides and Toxics Management Division, U.S. Environmental Protection Agency, Region 4, 61 Forsyth Street SW., Atlanta, Georgia 30303-8960. EPA requests that if at all possible, you contact the person listed in the FOR FURTHER INFORMATION CONTACT section to schedule your inspection. The Regional Office's official hours of business are Monday through Friday, 8:30 to 4:30 excluding federal holidays.

FOR FURTHER INFORMATION CONTACT: Jane Spann, Regulatory Development Section, Air Planning Branch, Air, Pesticides and Toxics Management Division, Region 4, U.S. Environmental Protection Agency, 61 Forsyth Street SW., Atlanta, Georgia 30303-8960. The telephone number is (404) 562-9029. Ms. Spann can also be reached via electronic mail at spann.jane@epa.gov.

SUPPLEMENTARY INFORMATION:

Table of Contents

I. Background

II. This Action

III. Final Action

IV. Statutory and Executive Order Reviews

I. Background

On April 30, 2004, EPA designated the Atlanta Area as a marginal nonattainment area with respect to the 1997 8-hour ozone national ambient air quality standards (NAAQS). See 69 FR 23858. The Atlanta Area includes the following 20 counties: Barrow, Bartow, Carroll, Cherokee, Clayton, Cobb, Coweta, DeKalb, Douglas, Fayette, Forsyth, Fulton, Gwinnett, Hall, Henry, Newton, Paulding, Rockdale, Spalding and Walton.¹ For background purposes, portions of the Atlanta Area were designated as a severe nonattainment area for the 1-hour ozone NAAQS. The Area was subsequently redesignated to attainment for the 1-hour ozone NAAQS with a maintenance plan. The original Atlanta 1-hour severe ozone nonattainment area consisted of 13 counties including Cherokee, Clayton, Cobb, Coweta, DeKalb, Douglas, Fayette, Forsyth, Fulton, Gwinnett, Henry, Paulding and Rockdale. See 56 FR 56694 (November 6, 1991). As such, major sources in the 13-county 1-hour ozone nonattainment area were defined as those sources that emit 25 tons per year (tpy) or more of VOC or NOX. Therefore, the applicability of some of the rules being approved in today's action is for 25 tpy and above for sources in the 13 county area that was severe for the 1-hour ozone NAAQS and moderate for the 1997 8-hour ozone NAAQS; and 100 tpy and above in the remaining 7 counties that have only been classified as moderate for the 1997 8-hour ozone NAAQS.

¹ Effective July 20, 2012, EPA designated 15 counties in the Atlanta metropolitan area as a marginal nonattainment area for the 2008 8-hour ozone NAAQS. Today's final action regarding RACT is not related to requirements for the 2008 8-hour ozone NAAQS.

On March 6, 2008, EPA reclassified the Atlanta Area from a marginal ozone nonattainment area to a moderate ozone nonattainment area. As a result of this designation and subsequent reclassification to moderate, Georgia was required to amend its SIP for the Atlanta Area to satisfy the requirements for a moderate area under CAA section 182. Section 182(b)(2) of the CAA requires states to adopt RACT rules for all areas designated nonattainment for ozone and classified as moderate or above. The three parts of the section 182(b)(2) RACT requirements are: (1) RACT for sources covered by an existing CTG (i.e., a CTG issued prior to enactment of the 1990 amendments to the CAA); (2) RACT for sources covered by a post-enactment CTG; and (3) all major sources not covered by a CTG (i.e., non-CTG sources). Pursuant to 40 CFR 51.165, a major source for a moderate ozone area is a source that emits 100 tpy or more of VOC or NOX. For more information regarding the RACT requirements, including requirements and schedules for sources covered by CTGs, please see the proposed approval of this action. See 77 FR 45307, July 31, 2012.

II. This Action

EPA is taking final action to approve several final SIP revisions submitted by the State of Georgia, through the GA EPD, to EPA on November 13, 1992, October 21, 2009,² March 19, 2012,³ and September 7, 2012. The September 7, 2012, SIP revision was initially submitted to EPA for parallel processing on July 19, 2012, and the final version was submitted to EPA on September 7, 2012, consistent with applicable requirements.⁴ The purpose of these revisions is to ensure that certain VOC and NOX sources are controlled to levels that meet RACT requirements for major sources located in the Atlanta Area and meet RACT requirements for certain VOC source categories for which EPA has issued CTG. EPA has evaluated the revisions to Georgia's SIP, and has made the determination that they are consistent with statutory and regulatory requirements and EPA guidance.

² Three separate submittals were submitted to EPA from GA EPD on October 21, 2009. These are Submittals A, B and C referenced in the July 31, 2012, proposed approval. See 77 FR 45307.

³ Georgia submitted a SIP revision on September 15, 2008, that addressed four RACT rule changes that are described in EPA's July 31, 2012, proposed rulemaking. Specifically, these rules are Rules 391-1-.02(2)(y) Metal Furniture, (ff) Solvent Metal Cleaning, (ii) Miscellaneous Metal Coating and (kkk) Aerospace Coatings. EPA notes that Georgia submitted a subsequent SIP revision to make additional changes to these aforementioned rules. While EPA's July 31, 2012, proposed rulemaking does not specifically reference Georgia's September 15, 2008, SIP revisions, EPA's proposal does account for the comprehensive changes to Rules 391-1-.02(2)(y), (ii) and (kkk) from Georgia's September 15, 2008, SIP revision as supplemented with subsequent SIP revisions and EPA's proposal does account for appropriate applicability for Rule 391-1-.02(2)(ff). The version of the Rule 391-1-.02(2)(ff) already in the federally approved SIP, along with the applicability change found in EPA's proposal, meet the RACT requirements. Georgia's September 15, 2008, SIP revision also included revisions to seven additional rules which were not addressed in EPA's July 31, 2012, proposed rulemaking and are not being finalized in today's action. These seven additional rules are unrelated to RACT.

⁴ On July 31, 2012, EPA proposed approval of GA EPD's July 19, 2012, SIP revision contingent upon Georgia providing EPA a final SIP revision that was not changed significantly from the July 19, 2012, SIP revision. Georgia provided its final SIP revision on September 7, 2012. There were no changes made to the final submittal.

The purpose of today's action is to approve the referenced SIP revisions as meeting the VOC and NOX RACT requirements of section 182(b)(2) of the CAA for the Atlanta Area. On July 31, 2012, EPA published a proposed rulemaking to approve, and in the alternative conditionally approve, the referenced SIP revisions. See 77 FR 45307. EPA did not receive any public comments on its proposal. Since EPA received Georgia's final SIP revision on September 7, 2012, and the final submittal remained unchanged from the State's draft July 19, 2012, SIP revision, EPA is finalizing today's action as a full approval and does not need to conditionally approve any portion of Georgia's SIP revisions as meeting the VOC and NOX RACT requirements.

III. Final Action

EPA is taking final action to approve four SIP revisions submitted by the State of Georgia to address the CTG and RACT requirements for the Atlanta Area. Specifically, EPA is taking final action to approve final SIP revisions submitted to EPA from GA EPD on November 13, 1992, October 21, 2009 (three separate submittals on this day), March 19, 2012, and September 7, 2012. EPA is approving these SIP revisions because they are consistent with the CAA and requirements related to VOC and NOX RACT.

IV. Statutory and Executive Order Reviews

Under the CAA, the Administrator is required to approve a SIP submission that complies with the provisions of the Act and applicable federal regulations. 42 U.S.C. 7410(k); 40 CFR 52.02(a). Thus, in reviewing SIP submissions, EPA's role is to approve state choices, provided that they meet the criteria of the CAA. Accordingly, this action merely approves state law as meeting federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by November 27, 2012. Filing a petition for reconsideration by the Administrator of this final rule does not affect the finality of this action for the purposes of judicial review nor does it extend the time within which a petition for judicial review may be filed, and shall not postpone the effectiveness of such rule or action. This action may not be challenged later in proceedings to enforce its requirements. See section 307(b)(2).

List of Subjects in 40 CFR Part 52

Environmental protection, Air pollution control, Incorporation by reference, Intergovernmental relations, Nitrogen dioxide, Ozone, Reporting and recordkeeping requirements, Volatile organic compounds.

Dated: September 10, 2012.
A. Stanley Meiburg,
Acting Regional Administrator, Region 4.

40 CFR part 52 is amended as follows:

PART 52—[AMENDED]

1. The authority citation for part 52 continues to read as follows:

Authority: 42.U.S.C. 7401 et seq.

Subpart L—Georgia

2. Section 52.570(c), is amended by revising the entries for “391-3-1.01,” “391-3-1-.02(2)(a),” “391-3-1-.02(2)(t),” “391-3-1-.02(2)(u),” “391-3-1-.02(2)(v),” “391-3-1-.02(2)(w),” “391-3-1-.02(2)(x),” “391-3-1-.02(2)(y),” “391-3-1-.02(2)(z),” “391-3-1-.02(2)(aa),” “391-3-1-.02(2)(ii),” “391-3-1-.02(2)(jj),” “391-3-1-.02(2)(mm),” “391-3-1-.02(2)(pp),” “391-3-1-.02(2)(rr),” “391-3-1-.02(2)(ss),” “391-3-1-.02(2)(tt),” “391-3-1-.02(2)(vv),” “391-3-1-.02(2)(yy),” “391-3-1-.02(2)(ccc),” “391-3-1-.02(2)(ddd),” “391-3-1-.02(2)(eee),” “391-3-1-.02(2)(hhh),” “391-3-1-.02(2)(kkk),” and “391-3-1-.02(2)(rrr)” and adding new entries for “391-3-1-.02(2)(vvv),” “391-3-1-.02(2)(yyy),” “391-3-1-.02(2)(zzz),” and “391-3-1-.02(2)(aaaa)” to read as follows:

§ 52.570 Identification of plan.

* * * * *

(c) * * *

EPA Approved Georgia Regulations
State citation | Title/subject | State effective date | EPA approval date | Explanation
391-3-1.01 | Definitions | 3/7/2012 | 9/28/2012 [Insert citation of publication] |
* * * * * * *
Emission Standards
391-3-1-.02(2)(a) | General Provisions | 3/7/2012 | 9/28/2012 [Insert citation of publication] | Except for paragraph 391-3-1-.02(2)(a)1 (as approved on 3/16/06).
* * * * * * *
391-3-1-.02(2)(t) | VOC Emissions from Automobile and Light Duty Truck Manufacturing | 3/7/2012 | 9/28/2012 [Insert citation of publication] |
391-3-1-.02(2)(u) | VOC Emissions from Can Coating | 9/16/1992 | 9/28/2012 [Insert citation of publication] |
391-3-1-.02(2)(v) | VOC Emissions from Coil Coating | 9/16/1992 | 9/28/2012 [Insert citation of publication] |
391-3-1-.02(2)(w) | VOC Emissions from Paper Coating | 3/7/2012 | 9/28/2012 [Insert citation of publication] |
391-3-1-.02(2)(x) | VOC Emissions from Fabric and Vinyl Coating | 9/16/1992 | 9/28/2012 [Insert citation of publication] |
391-3-1-.02(2)(y) | VOC Emissions from Metal Furniture Coating | 3/7/2012 | 9/28/2012 [Insert citation of publication] |
391-3-1-.02(2)(z) | VOC Emissions from Large Appliance Surface Coating | 3/7/2012 | 9/28/2012 [Insert citation of publication] |
391-3-1-.02(2)(aa) | VOC Emissions from Wire Coating | 9/16/1992 | 9/28/2012 [Insert citation of publication] |
* * * * * * *
391-3-1-.02(2)(ii) | VOC Emissions from Surface Coating of Miscellaneous Metal Parts and Products | 3/7/2012 | 9/28/2012 [Insert citation of publication] |
391-3-1-.02(2)(jj) | VOC Emissions from Surface Coating of Flat Wood Paneling | 3/7/2012 | 9/28/2012 [Insert citation of publication] |
* * * * * * *
391-3-1-.02(2)(mm) | VOC Emissions from Graphic Arts Systems | 3/7/2012 | 9/28/2012 [Insert citation of publication] |
* * * * * * *
391-3-1-.02(2)(pp) | Bulk Gasoline Plants | 6/8/2008 | 9/28/2012 [Insert citation of publication] |
* * * * * * *
391-3-1-.02(2)(rr) | Gasoline Dispensing Facilities—Stage I | 6/8/2008 | 9/28/2012 [Insert citation of publication] |
391-3-1-.02(2)(ss) | Gasoline Transport Systems and Vapor Collection Systems | 6/8/2008 | 9/28/2012 [Insert citation of publication] |
391-3-1-.02(2)(tt) | VOC Emissions from Major Sources | 6/8/2008 | 9/28/2012 [Insert citation of publication] |
* * * * * * *
391-3-1-.02(2)(vv) | Volatile Organic Liquid Handling and Storage | 4/12/2009 | 9/28/2012 [Insert citation of publication] |
391-3-1-.02(2)(yy) | Emissions of Nitrogen Oxides from Major Sources | 4/12/2009 | 9/28/2012 [Insert citation of publication] |
* * * * * * *
391-3-1-.02(2)(ccc). | VOC Emissions from Bulk Mixing Tanks | 4/12/2009 | 9/28/2012 [Insert citation of publication] |
391-3-1-.02(2)(ddd) | VOC Emissions from Offset Lithography and Letterpress | 3/7/2012 | 9/28/2012 [Insert citation of publication] |
391-3-1-.02(2)(eee) | VOC Emissions from expanded Polystyrene Products Manufacturing | 4/12/2009 | 9/28/2012 [Insert citation of publication] |
* * * * * * *
391-3-1-.02(2)(hhh) | Wood Furniture Finishing and Cleaning Operations | 4/12/2009 | 9/28/2012 [Insert citation of publication] |
* * * * * * *
391-3-1-.02(2)(kkk) | VOC Emissions from Aerospace Manufacturing and Rework Facilities | 4/12/2009 | 9/28/2012 [Insert citation of publication] |
391-3-1-.02(2)(lll) | NOX Emissions from Fuel Burning Equipment | 4/12/2009 | 9/28/2012 [Insert citation of publication] |
* * * * * * *
391-3-1-.02(2)(rrr) | NOX Emissions from Small Fuel-Burning Equipment | 4/12/2009 | 9/28/2012 [Insert citation of publication] |
* * * * * * *
391-3-1-.02(2)(vvv) | VOC Emissions from Coating Miscellaneous Plastic Parts and Products | 3/7/2012 | 9/28/2012 [Insert citation of publication] |
391-3-1-.02(2)(yyy) | VOC Emissions from the use of Miscellaneous Industrial Adhesives | 3/7/2012 | 9/28/2012 [Insert citation of publication] |
391-3-1-.02(2)(zzz) | VOC Emissions from Fiberglass Boat Manufacturing | 3/7/2012 | 9/28/2012 [Insert citation of publication] |
391-3-1-.02(2)(aaaa) | Industrial Cleaning Solvents | 3/7/2012 | 9/28/2012 [Insert citation of publication] |
| * * * * * * *

[FR Doc. 2012-23710 Filed 9-27-12; 8:45 am]

BILLING CODE 6560-50-P